DEPARTMENT OF THE INTERIOR

National Park Service

[NPS-WASO-NAGPRA-NPS0031202; PPWOCRADN0-PCU00RP14.R50000]

Notice of Inventory Completion: Robert S. Peabody Institute of Archaeology, Andover, MA; Correction

AGENCY: National Park Service, Interior.

ACTION: Notice; correction.

SUMMARY: The Robert S. Peabody Institute of Archaeology (formerly the Robert S. Peabody Museum of Archaeology) has corrected an inventory of human remains and associated funerary objects, published in a Notice of Inventory Completion in the Federal Register on August 5, 2019. This notice corrects the number of individuals and associated funerary objects. Lineal descendants or representatives of any Indian Tribe or Native Hawaiian organization not identified in this notice that wish to request transfer of control of these associated funerary objects should submit a written request to the Robert S. Peabody Institute of Archaeology. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by January 4, 2021.

ADDRESSES: Ryan Wheeler, Robert S. Peabody Institute of Archaeology, 180 Main Street, Andover MA 01810, telephone (978) 749-4490, email rwheeler@andover.edu.

SUPPLEMENTARY INFORMATION: Notice is here given in accordance with the Native American Graves Protection and Repatriation Act (NAGPRA), 25 U.S.C. 3003, of the correction of an inventory of human remains and associated funerary objects under the control of the Robert S. Peabody Institute of Archaeology, Andover, MA. The human remains and associated funerary objects were removed from four sites in FL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of individuals and associated funerary objects published in a Notice of Inventory Completion in the Federal Register (84 FR 38045-38047, August 5, 2019). During preparation for repatriation, one additional set of human remains and additional associated funerary objects from Macey Mound, FL, were identified. These human remains and associated funerary objects were removed by Fred Alanson Luce and his son Stanley Eldridge Luce around 1940. Transfer of control of the items in this correction notice has not occurred.

Correction

In the Federal Register (84 FR 38045, August 5, 2019), column 3, paragraph 4, sentence 1, under the heading “History and Description of the Remains,” is corrected by substituting the following sentence:

In January 1920, human remains representing, at minimum, ten individuals were removed by Fred Alanson Luce and his son Stanley Eldridge Luce from the Macey Mound (8OR10313) in Orange County, FL.

In the Federal Register (84 FR 38045, August 5, 2019), column 3, paragraph 4, sentence 6 is corrected by substituting the following sentence:

Examination by physical anthropologists Michael Gibbon and Harley Erickson, and Peabody staff members found that the human remains represent two adults of indeterminate sex; four adult males; one adult, possibly female; two juveniles of indeterminate sex; and one cremated individual.

In the Federal Register (84 FR 38045, August 5, 2019), column 3, paragraph 4, sentence 8 is corrected by substituting the following sentence:

The 1,727 associated funerary objects are one charcoal sample; one whelk shell columella; one shell bead; one stone plummet; nine quartz pebbles; three chert bifaces; one sand sample; and 1,710 pottery sherds.

In the Federal Register (84 FR 38046, August 5, 2019), column 3, paragraph 2, sentence 1, under the heading “Determinations Made by the Robert S. Peabody Institute of Archaeology,” is corrected by substituting the following sentence:

Pursuant to 25 U.S.C. 3001(9), the human remains described in this notice represent the physical remains of 13 individuals of Native American ancestry.

In the Federal Register (84 FR 38046, August 5, 2019), column 3, paragraph 2, sentence 2 is corrected by substituting the following sentence:

Pursuant to 25 U.S.C. 3001(3)(A), the 1,737 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Ryan Wheeler, Robert S. Peabody Institute of Archaeology, 180 Main Street, Andover, MA 01810, telephone (978) 749-4490, email rwheeler@andover.edu, by January 4, 2021. After that date, if no additional requestors have come forward, transfer of control of the human remains and associated funerary objects to the Miccosukee Tribe of Indians; Seminole Tribe of Florida (previously listed as the Seminole Tribe of Florida (Dania, Big Cypress, Brighton, Hollywood & Tampa Reservations)); and The Seminole Nation of Oklahoma may proceed.

The Robert S. Peabody Institute of Archaeology is responsible for notifying The Consulted and Invited Tribes identified in the August 5, 2019 notice that this notice has been published.

Dated: November 24, 2020.
Melanie O'Brien,
Manager, National NAGPRA Program.

[FR Doc. 2020-26759 Filed 12-3-20; 8:45 am]

BILLING CODE 4312-52-P